DEPARTMENT OF COMMERCE

Foreign-Trade Zones Board

[Docket 6-2000]

Proposed Foreign-Trade Zone—City of Erie (County of Erie), PA; Amendment of Application

Notice is hereby given that the application of the Erie-Western Pennsylvania Port Authority, to establish a general-purpose foreign-trade zone in the City of Erie (County of Erie), Pennsylvania (Doc. 6-2000, 65 FR 12970, 3/10/00; amended 7/14/00, 65 FR 43736), has been amended further to include an additional non-contiguous site (20 acres) at the Hardinger Transportation Company's warehousing and distribution site, 1314 W. 18th Street, Erie. The facility provides logistics/transportation services (truck and rail). The site is within the Erie Customs port of entry (within the Cleveland Customs Service port area).

As amended, the zone proposal will consist of a total of three sites (496 acres) in the City of Erie. The application otherwise remains unchanged.

The comment period is reopened until October 6, 2000. Submissions (original and 3 copies) shall be addressed to the Board's Executive Secretary at the address below.

A copy of the application and the amendment and accompanying exhibits are available for public inspection at the following locations:

Erie County Public Library, Raymond M. Blasco, MD, Memorial Library, 160 East Front Street, Erie, PA 16507

Office of the Executive Secretary, Foreign-Trade Zones Board, Room 4008, U.S. Department of Commerce, 14th & Pennsylvania Avenue, NW, Washington, DC 20230.

Dated: August 22, 2000.
Dennis Puccinelli,
Executive Secretary.

[FR Doc. 00-23000 Filed 9-6-00; 8:45 am]

BILLING CODE 3510-DS-P